INTERNATIONAL TRADE ADMINISTRATION

Mission Statement for Executive-Led Trade Mission to Jordan and Israel

I. Mission Description

The United States Department of Commerce, International Trade Administration, U.S. and Foreign Commercial Service is organizing a Trade Mission to Amman, Jordan, and Jerusalem and Tel-Aviv, Israel. A stop in Eilat, Israel, for companies involved in the renewable energies sector, is also scheduled. The mission will take place February 20-24, 2011. The delegation will be comprised of U.S. firms from a cross section of industries with market potential including, but not limited to, products, services, and technologies in the following sectors: healthcare technologies, and cleantech, (i.e. technologies that support increased productivity or profitability while also reducing resource consumption or pollution, otherwise referred to as clean technologies).

The goal of the mission is to help U.S. companies launch or increase their export business in the markets of Jordan, Israel, and the West Bank. Participating firms will gain market information, make business and government contacts, solidify exporting strategies, and advance specific projects, towards the outcome of increasing U.S. exports. The mission, to be led by an executive level U.S. Department of Commerce official, will include business-to-business matchmaking appointments with local companies, networking events, and meetings and briefings with government and industry officials. The mission delegation will be comprised of U.S. firms that design, manufacture, supply, and/or integrate products, services, and technologies in the targeted sectors and in other appropriate industries.

II. Commercial Setting

Jordan

Jordan, with a 2009 GDP of $33 billion, and a per capita GDP of $5,300 continues to transform itself into an internationally competitive market-based economy. Education and literacy rates, and measures of social well-being are relatively high compared to other countries with similar incomes. Regarding Jordan's international trade position with the U.S., our exports to Jordan in 2009 were valued at $1.19 billion, representing nearly 16 percent of all Jordanian imports. Exports from Jordan to the U.S. for that same period were valued at $924 million, with two-way trade reaching $2.11 billion. Currently, under King Abdullah, Jordan has undertaken a major program of economic change, including the elimination of most fuel and agricultural subsidies, the passage of legislation targeting corruption, and the initiation of tax reforms. Key reforms have been undertaken in the information technology, pharmaceutical, tourism, and service sectors. In working toward trade liberalization, Jordan has also joined the World Trade Organization and, in 2001, it co-signed the first bilateral free trade agreement between the U.S. and an Arab country. In 2007 the United States and Jordan signed a Science and Technology Cooperation Agreement, bolstering efforts to help diversify Jordan's economy and promote growth. To date, duties on nearly all our goods and services have been eliminated, providing for more open markets in communications, construction, finance, health, transportation, and services. In addition, Jordan maintains a strict application of international standards for the protection of intellectual property. These changes and agreements facilitate good trading conditions between the U.S. and Jordan.

In the political arena, Jordan's constitutional monarchy has consistently followed a pro-Western foreign policy, maintaining close relations with the United States. The U.S. has participated with Jordan and Israel in trilateral development discussions, key issues being water-sharing and security; cooperation on Jordan Rift Valley development; infrastructure projects; and trade, finance, and banking issues. U. S. development efforts continue to address Jordan's health indicators, road and water networks, education levels, resource conservation, and provide grants and loans for purchasing U.S. agricultural commodities.

Cleantech

Clean technologies, in general, are a top priority for the Government of Jordan. The Ministry of Environment and municipal government authorities continue to hold numerous workshops focusing on environmentally sustainable city planning & development, pollution control, and water and wastewater treatment. Renewable energies (solar, wind, biogas), energy resources, and green building are big topics as well. Such workshops allow international participants to establish direct ties with the environmental private sector and government officials in Jordan.

Looking at the water sector, Jordan's water scarcity continuously triggers demand for water conservation technology and management at all levels of use. Jordan is currently exploring ways to expand its water supply and use its existing water resources more efficiently, including through regional cooperation. Given Jordan's large population growth, limited renewable water resources, and deteriorating water quality, the effective management and efficient use of water resources is critical. The Jordanian public water utility is taking on a more regulatory role, and upcoming opportunities for private sector participation and public private partnerships in water management will provide potential for U.S. entities specializing in utility management. Outsourcing of services for some water utilities is expected to become a trend in the coming years. This trend should also lead to opportunities for U.S. firms specializing in the water management sector, including engineering services, contracting, and treatment/desalination technology. Jordan's recent receipt of $400 million in Millennium Challenge Corporation (MCC) compact funding is expected to generate large-scale projects related to water supply, leak reduction, collection, delivery, desalination, wastewater treatment and wastewater reuse. The MCC is also considering programs to help poor households utilize limited water supplies more efficiently and effectively (see http://www.mcc.gov). USAID is currently financing several projects in Jordan related to water, giving priority to American equipment suppliers (see http://www.usaidjordan.org). Other governmental projects funded by multi-lateral lending institutions such as the World Bank also exist.

In the energy sector, Jordan depends on external sources for the majority of its ever-growing requirements. Particularly in renewable energy and power generation, municipal gas systems, and oil shale development, the energy sector is a key growth industry. In 2007 the country developed a new energy strategy that aims to create more indigenous and renewable energy sources, including oil shale. Best prospects for electricity generation in Jordan are related to independent power projects (IPPs). There are tremendous opportunities for U.S. investors interested in concessions in electricity generation. There are also possibilities in the areas of solar energy, and waste-to-energy investments, electricity loss reduction, and oil shale extraction. In addition, the Government of Jordan is studying the idea of distributing natural gas coming from Egypt to Jordanian houses and industrial complexes. Implementing this idea will open up a new market, as Jordan currently lacks expertise in gas distribution networks. U.S. agency financed procurement opportunities and projects in these sectors are available and advertised on the Federal Web site: http://www.fedbizopps.gov. They are expected to be mainly in the areas of consulting and technical assistance, focusing on renewables, energy management, and efficiency. The U.S. Trade & Development Agency, http://www.ustda.gov, funds feasibility studies and grants in these areas as well.

Jordan is now undergoing rapid expansion and investment. As Jordan has limited resources, conservation is a priority; both the Government and its citizens are encouraged to incorporate sustainable building design and technology in construction. The lower subsequent electricity and water consumption resulting from green building would allow for recouping of related additional investments, making a compelling case for the spreading of green build technologies in Jordan in the near future. Toward this goal, Jordan would need to import renewable energy technology and other building materials, creating additional opportunities for U.S. companies.

Healthcare Equipment, Services, and Technologies

Jordan has one of the strongest markets in the region for healthcare. Through 44 public hospitals and 60 private hospitals, it provides healthcare equipment and services for its citizens and over 250,000 patients from neighboring countries annually. Its healthcare equipment industry may be categorized into the four subsectors of pharmaceuticals, medical and surgical equipment, lab equipment, and furniture. Local production of medical equipment is limited, and Jordan primarily relies on imports, which totaled $110 million in 2008. Imports are growing and expected to reach $519 million by 2013. The end users of these imports are the Ministry of Health related facilities and the growing private hospitals, clinics, and physicians working there. Medical equipment and pharmaceutical products will continue to be the largest health related expenditure in Jordan, and the U.S. continues to be Jordan's biggest single supplier of the imported equipment and services. It should be mentioned here that the Ministry of Health prohibits the import of used and refurbished medical devices into the Kingdom.

With Jordan's medical sector advancement and its newer focus on medical tourism, its annual number of served patients will increase significantly. Along with this rise, the demand for medical equipment and supplies will continue to grow by 38.9% between 2010 and 2013, from US$1.80 billion to US$2.50 billion. This increase in focus and demand will require upgrades in both public and private medical services, facilities and institutions, and the quality of hospital and clinic management, and administration. Primary healthcare sector reforms will include renovating and adding medical diagnostic devices and therapeutic equipment; improving the quality of healthcare, healthcare professional training, and hospital services; upgrading hospital infrastructure; developing and implementing health information systems; and increased medical research. Upgrades in medical equipment and services will be targeted in Jordan's rural areas, in line with its healthcare system reforms. Such market expansion and the ripple effect of exposure to U.S. products by Jordanian physicians who have received some form of medical training in the U.S. create many incentives for U.S. providers to enter the Jordanian markets.

The best prospects include consulting in hospital administration, quality control and certification standards; training; and laboratory and hospital administration software. There is also a need for various types of equipment, including sophisticated laboratory diagnostics like C-T, MRI, and PET scanners, laboratory reagents, testing equipment, cardiology and kidney dialysis equipment, as well as hospital furniture. Recent imports of hospital furniture including beds, surgery rooms lighting, and dental equipment exceeded $7.5 million, with U.S. products accounting for nearly a quarter of those imports. The total value of recent ambulance imports was nearly $4 million with the U.S. products accounting for 60% of the purchases. Given the strength of the local industry, Jordan's broad healthcare market will be rich in opportunities for U.S. firms, including licensing agreements and joint ventures with Jordanian companies.

Israel

Israel's government is a parliamentary democracy with a president elected for a 5-year term. It has a unicameral legislature and its governing body is called the Knesset. Today Israel has diplomatic relations with 163 states, including Egypt and Jordan. Commitment to Israel's security and well being has been a cornerstone of U.S. policy in the Middle East since Israel's founding in 1948. Continuing U.S. economic and security assistance to Israel acknowledges these ties and signals U.S. commitment.

Israel has a diversified, technologically advanced economy with substantial but decreasing government ownership and a strong high-tech sector especially in the cleantech, medical, and biotechnology areas. The major industrial sectors include high-technology electronic and biomedical equipment, metal products, processed foods, chemicals, and transport equipment. Israel possesses a substantial service sector and is one of the world's centers for diamond cutting and polishing. It is also a world leader in software development and a major tourist destination. The country's strong commitment to economic development and its talented work force has led to economic growth rates that have frequently exceeded 10% annually. The Israeli economy has continued to grow at an annual growth rate of 4.2%, except for 2009 when it grew only 0.5%. The country entered the global economic crisis with solid fundamentals and the economy has shown signs of an early recovery, with expectations for greater expansion in 2010. Israel's GDP in 2009 was $206.8 billion and its per capita GDP was $28,400.

International trade of goods and services in Israel grew by a healthy 5.2% in 2008, with the United States being Israel's largest single trading partner. In 2008, bilateral trade totaled $28 billion, showing an increase of almost 5% over 2007, even in light of the global economic slowdown. Israel is our 20th largest export market for goods. The two countries signed a free trade agreement in 1985 that progressively eliminated tariffs on most goods traded between the two countries over the following 10 years. Exports of U.S. goods to Israel totaled US$8.64 during the first 11 months of 2009, and US$13.49 billion for that same period in 2008. With a favorable dollar exchange rate, U.S. equipment suppliers currently enjoy a price advantage over EU-based manufacturers.

Trade opportunities between Israel and the U.S. are encouraged through the existence of bi-national funding programs, such as the Israel-U.S. Bi-national Industrial Research and Development (BIRD) initiative, available for U.S. companies to tap towards the goal of mutually beneficial industrial R&D projects. The BIRD Foundation, established by both governments in 1977, covers up to 50 percent of project development and product commercialization costs for companies in the fields of communications, life sciences, electronics, electro-optics, software, homeland security, renewable and alternative energy and other sectors of the hi-tech industry.

Cleantech

Israel has an impressive record in a wide variety of cleantech areas: Utilization and management of water resources, including marginal water and sewage; combating of desertification; and utilization of solar, geothermal energy, and agro-ecology. The Israel Ministry of National Infrastructures Web site, http://www.mni.gov.il, lists ongoing and planned programs and initiatives. From recycling centers, to water desalination, to renewable energy power stations, to solar power stations, to wind turbine generators, to photovoltaic panels, there is much room for cooperation and participation.

Energy related clean technologies in Israel provide opportunities for U.S.-Israel commercial partnerships, especially in the areas of renewable energy and natural gas. The BIRD Foundation Energy program, http://www.birdf.com offer grants to U.S. and Israeli companies interested in joint development of clean energy technologies. The program is funded by the U.S. Department of Energy, the Israeli Ministry of National Infrastructures, and the BIRD Foundation. These grants help fund joint development in areas such as solar power, biofuels, advanced vehicle technologies, wind energy, smart grid, etc. The annual Eilat Renewable Energy conference and exhibition (http://www.eilatenergy.com) provides a good opportunity for U.S. renewable energy companies to share their technologies with Israeli companies.

Israel's fresh water resources are already being exploited to the limit as the demand for water continues to grow with the country's population. An important potential new source is marginal water, e.g. effluents, brackish water and seawater. Tertiary treatment of sewage water and desalination of brackish and seawater can provide the much-needed extra resources. The solution involves ensuring a dependable supply of water for domestic, industrial and agricultural use by the implementation of new government regulations and the construction of large-scale plants for desalination of seawater and reclamation of urban effluents.

Growth in Israel's green building market is stimulated by a recent government initiative encouraging sustainable building practices (i.e. construction related processes that are environmentally responsible and resource-efficient throughout a building's life-cycle). Under this initiative, the government has adopted a green building standard. New and renovated residential and office buildings that comply with the green build standards will provide developers with a marketing advantage and will serve as a measure of the quality of the building for consumers. This development offers good opportunities for the U.S. green build technologies.

Healthcare Equipment, Technologies, and Services

Healthcare is a priority in Israel, a country that spends 8% of its GDP on healthcare. The country boasts a very high level of healthcare and an extensive infrastructure of quality resources that range from local community clinics to world-renowned trauma centers. Israel's demand for medical equipment is steady and while there is no government plan in place for a massive investment in new devices, hospitals are likely to replace equipment on an ad-hoc basis to keep up with the latest, most advanced technologies.

As Israel has the largest per-capita medical device market in the Middle East, and 80% of demand is supplied by imports, its medical equipment market presents good opportunities for U.S. manufacturers. U.S. equipment already accounts for ⅓ of medical imports. Sales of U.S. medical equipment to Israel grew by 6% in 2008 and totaled $174 million—about one-third of Israel's $514 million medical equipment imports. The licensing procedures for American-made, USFDA approved medical equipment are fairly easily facilitated because the Israel Ministry of Health uses the FDA's standards for the purpose of issuing licenses. A favorable Shekel-Dollar exchange rate is likely to encourage demand for U.S. made medical devices.

Israel also has a high ratio of medical doctors to population (3.5 per 1,000). Many Israeli physicians are both early adopters of new technologies and developers of original technologies in their own right. To support this development, Israel has 466 life science companies, focusing on medical device and biotech. About a half of the medical device companies focus on therapeutic devices with the leading applications being in cardiovascular, oncology, neurology and neurodegenerative. There are also 60 pharmaceutical focused companies located in Israel. Opportunities for U.S. drug companies exist in the area of research, clinical trials and academic and professional exchanges. Other industry areas include diagnostic, imaging and monitoring devices.

A well-developed private sector dominates the areas of dental care, eye laser surgery and plastic/aesthetic surgery and is keeping up demand for advanced medical instruments and appliances. To generate extra income, Israeli hospitals provide private care in addition to public healthcare services. Medical tourism is specifically a growing niche service that helps generate additional income for the healthcare sector and supports market growth. Both private healthcare and medical tourism are likely to demand further upgrades in existing systems and purchase of new equipment. Best sales prospects exist in the advanced medical technologies, instruments and disposables in the following categories: diagnostic imaging, equipment and technologies for pain management, physiotherapy, ozone & oxygen therapy, OR equipment & single use products, point of care and wound management technologies.

The West Bank

The West Bank has a land area of 5,640 square kilometers (including East Jerusalem). Along with Gaza, it is collectively referred to as the Palestinian Territories. The area is located in the eastern part of the Palestinian territories, on the west bank of the Jordan River. To the west, north, and south, the West Bank shares borders with the State of Israel. To the east, across the Jordan River, lies the country of Jordan. The population in the Palestinian West Bank and Gaza is 4 million. The population growth rate is 3.9% and around 50% of the population is 18 years or younger. Based on 2009 CIA World Factbook figures, the GDP in the West Bank was $12.79 billion and its 2008 per capita GDP was $2,900. Last year the local economy grew by 8%.

The West Bank, the larger of the two areas comprising the Palestinian Authority (PA), experienced a limited revival of economic activity in 2009. This revival was a result of inflows of donor assistance, the PA's implementation of economic reforms, improved security, and the relative easing of movement and access restrictions within the West Bank by the Israeli Government. The PA under President Mahmoud Abbas and Prime Minister Salam Fayyad have implemented a largely successful campaign of institutional reforms and economic development that has contributed to increased economic performance, supported by more than $3 billion in direct foreign donor assistance to the PA's budget since 2007. An easing of some Israeli restrictions on West Bank movement and access in 2008 and 2009 also contributed to an uptick in retail and entertainment activity in larger cities. Many American companies have reoriented their marketing efforts to acknowledge the Palestinian market as culturally, economically, and commercially distinct from the Israeli market. To date, dozens of American firms have established agencies and distributorships, and Palestinian consumers have a strong preference for a wide variety of U.S. goods and services. The U.S. Commercial Service in Jerusalem strongly encourages American exporters wishing to market their goods in the West Bank to use local Palestinian agents and distributors to maximize their sales exposure to the local market.

Cleantech

Three electricity distribution companies operate in the West Bank: The Jerusalem District Electric Company (JDECO), serving East Jerusalem, Jericho, Ramallah and Bethlehem; the National Electric Company (NEC), operating in the northern West Bank; and the Southern Electric Company (SELCO), serving the southern areas. These companies purchase electricity from the Israel Electric Corporation (IEC), which they transmit over a grid currently owned by the IEC. In the West Bank, Israel supplies 95% of the electric power used, and the remaining 5% comes from Jordan. The electricity systems in the West Bank require substantial upgrading and expansion to meet current demand. Over the next few years, infrastructure development projects, including upgrading of the electricity network, and establishment of a national electricity distribution company in the West Bank, will mean significant growth for the West Bank economy. Growth opportunities also exist related to a planned solar energy power generation plant.

Regarding other options for local power generation, natural gas resources in the Palestinian Territories are being explored for possible use in the West Bank. The West Bank depends on oil as its main source of energy and Palestinians import all their petroleum products from Israel. Once an infrastructure to transport the gas is developed, natural gas resources here would eliminate the need for total reliance on these expensive imports, and would offer opportunities to U.S. companies, both in major network equipment as well as in diesel generators.

Currently, short- and medium-term environment sector opportunities in the West Bank are small and limited to public projects that are undertaken by municipalities. These are small wastewater treatment or solid waste removal projects that are funded by international donor agencies like USAID and World Bank. However, given the scarcity of water resources in the region, long-term prospects for water treatment for reuse could become a viable prospect. Solid waste removal and recycling could also become a viable industry, following investments made for equipment and public education. The West Bank Water Supply Program aims to increase the amount of fresh water available to the population through the digging of new wells in the West Bank, construction of reservoirs and transmission systems to take water from wells to towns and cities; and building distribution systems to deliver water to homes. This program would create an attractive niche market for U.S. exporters of environmental technologies particularly in desalination and wastewater treatment.

Healthcare Products & Services

The size of the medical equipment and supplies market in the West Bank and Gaza has been estimated to $20 million annually. The market is made up of medical capital equipment, medical supplies, and lab equipment and lab disposable supplies. There is no domestic production of medical equipment and supplies, so Palestinians depend 100% on imports. There are no import duties on U.S.-made goods entering the West Bank, however products are subject to both a purchase tax, and a value added tax that is currently 14.5%. The majority of the Palestinian population relies on medical services provided by public hospitals that are run by the Palestinian Ministry of Health under a general health insurance program. The Ministry is in charge of providing all medical equipment and supplies that are paid for mostly through international donors support programs. The total number of public and private hospitals in West Bank and Gaza is 72 and total number of beds is 5,000.

The U.S. share of the market is roughly 15% of the total, but two factors are expected to change the percentage: The falling value of the U.S. dollar vs. the Euro that makes U.S. exports more competitive and the continued support by USAID of healthcare projects in the West Bank. USAID regulations stipulate that funds can be spent on American-made equipment only, and the Agency has pledged $86 million for the coming five years to help reform the Palestinian healthcare sector.

III. Mission Goals

The goal of this trade mission is to facilitate greater access to the Jordanian, Israeli, and West Bank markets by providing participants with first-hand market information, access to government decision makers, and one-on-one appointments with business contacts, including potential agents, distributors, and partners. As a result of this mission, and in keeping with the goals of the U.S. Commercial Service, and the President's National Export Initiative, companies should look forward to export successes in the region.

IV. Mission Scenario

The trade mission will include the following stops: Amman, Jordan, and Tel-Aviv, and Jerusalem, Israel, with a trip to Eilat, Israel for renewable focused companies. In each city, participants will meet with new business/government contacts. Additional business meetings in other countries in the region can be arranged before or after the mission through the Gold Key Service for an added cost of $700 per city (exclusive of interpreter and transportation costs).

V. Mission Timetable

Saturday, February 19, 2011—U.S. trade mission participants arrive in Jordan; no-host ice breaker.

Sunday, February 20, 2011—Briefings/meetings with Jordanian Government and industry officials. One-on-one business appointments scheduled.

Monday, February 21, 2011—Half day of one-on-one business appointments; incl. lunch. Afternoon van travel to Jerusalem and briefing by U.S. Consulate there. Reception to follow briefings. Transport to hotel for rest of evening.

Tuesday, February 22, 2011—Morning briefings and one-on-one meetings by U.S. Commercial Service, West Bank, and other Government and industry officials to be held in Jerusalem or West Bank, to be determined. Working lunch to be followed by departures to Tel-Aviv, and Eilat, by air, as appropriate. (Renewables focused companies will be attending Eilat Renewables Energy Conference and Exhibition). Transport to hotels in Tel-Aviv and Eilat will be provided for no-host rest of evening.

Wednesday, February 23, 2010—Full day of briefings with Israeli Government and industry officials in Tel-Aviv, incl. no-host lunch. Eilat based companies will have one-on-one meetings while at conference. Evening is free to explore on your own.

Thursday, February 24, 2010—Companies in Tel-Aviv will attend Embassy breakfast followed by participation in one-on-one appointments there. For companies attending Eilat Conference, morning flight to Israel's Sde Dov Domestic Airport, and Tel-Aviv. Full/Half-day appointments dependent upon companies' arrival times in Tel-Aviv. Lunch at participants' expense. Evening networking reception at Ambassador's residence. Participants' debriefing before/at Tel-Aviv hotel, and official end of mission.

Posts will assist in arranging for group sight-seeing for those companies interested in arriving before or staying after the mission.

VI. Participation Requirements

All parties interested in participating in the Executive-led Trade Mission to Jordan, and Israel must complete and submit an application package for consideration by the Department of Commerce. All applicants will be evaluated on their ability to meet certain conditions and best satisfy the selection criteria as outlined below. The objective is for a minimum of 12 and maximum of 15 companies to be selected to participate in the mission from the applicant pool. U.S. companies already doing business with Jordan, Israel, and the West Bank as well as U.S. companies seeking to enter these markets for the first time may apply.

Fees and Expenses

After a company has been selected to participate in the mission, a payment to the Department of Commerce in the form of a participation fee is required. The participation fee for an individual company representative will be $5,300 for large firms and $3,995 for small or medium-sized enterprises (SMEs).*

* An SME is defined as a firm with 500 or fewer employees or that otherwise qualifies as a small business under SBA regulations (see http://www.sba.gov/services/contracting_opportunities/sizestandardstopics/index.html). Parent companies, affiliates, and subsidiaries will be considered when determining business size. The dual pricing reflects the Commercial Service's user fee schedule that became effective May 1, 2008 (see http://www.export.gov/newsletter/march2008/initiatives.html for additional information).

The fee for each additional firm representative (large firm or SME) is $650. Expenses for travel, lodging, most meals, and incidentals will be the responsibility of each mission participant. The option to participate in the mission is also being offered to U.S.-based firms with an established presence in Jordan, Israel, and the West Bank, or neighboring countries; the same fee structure applies for these firms.

Conditions for Participation

• An applicant must submit a completed and signed mission application and supplemental application materials, including adequate information on the company's products and/or services, primary market objectives, and goals for participation. If the Department of Commerce receives an incomplete application, the Department may reject the application, request additional information, or take the lack of information into account when evaluating the applications.

Each applicant must also certify that the products and services it seeks to export through the mission are either produced in the United States, or, if not, marketed under the name of a U.S. firm and have at least 51 percent U.S. content of the value of the finished product or service.

Selection Criteria for Participation

Selection will be based on the following criteria:

• Suitability of the company's products or services for the Jordanian, Israeli, and West Bank markets.

• Applicant's potential for business in Jordan, Israel, and the West Bank, including likelihood of exports resulting from the mission.

• Consistency of the applicant's goals and objectives with the stated scope of the mission.

• Referrals from political organizations and any documents containing references to partisan political activities (including political contributions) will be removed from an applicant's submission and not considered during the selection process.

VII. Timeframe for Recruitment and Applications

Mission recruitment will be conducted in an open and public manner. Outreach will include posting on the Commerce Department trade mission calendar (http://www.ita.doc.gov/doctm/tmcal.html) and other Internet Web sites, press releases to general and trade media, direct mail, broadcast fax, notices by industry trade associations and other multiplier groups, and publicity at industry meetings, symposia, conferences, and trade shows. The International Trade Administration will explore and welcome outreach assistance from other interested organizations, including other U.S. Government agencies. Recruitment for the mission will begin immediately and conclude December 27, 2010. Applications will be available online on the mission Web site at http://www.export.gov/JordanIsraelWestBank. They can also be obtained by contacting the Mission Contacts listed below. Applications received after December 20, 2010, will be considered if space and scheduling constraints permit.

Contacts

Karen A. Dubin, Senior International Trade Specialist, Global Trade Programs; U.S. Commercial Service, Washington, DC 20230. Tel: 202/482-3786; Fax: 202/482-7801. E-mail: Karen.Dubin@trade.gov.

Jonathan Heimer, Senior Commercial Officer; U.S. Commercial Service, U.S. Embassy Tel Aviv. T: 972-3-519-7368; F: 972-3-510-7215. E-mail: Jonathan.Heimer@trade.gov.

Sanford Owens, Senior Commercial Officer; U.S. Commercial Service, U.S. Embassy Amman, T: 962-6-590-6629; F: 962-6-592-0146. E-mail: Sanford.Owens@trade.gov.

Karen A. Dubin,
Global Trade Programs, U.S. Commercial Service, Office of Trade Missions.

[FR Doc. 2010-23960 Filed 9-23-10; 8:45 am]

BILLING CODE 3510-FP-P